DEPARTMENT OF COMMERCE

Foreign-Trade Zones Board

[S-155-2023]

Approval of Subzone Status; BlueOval SK LLC; Glendale, Kentucky

On August 18, 2023, the Executive Secretary of the Foreign-Trade Zones (FTZ) Board docketed an application submitted by the Louisville & Jefferson County Riverport authority, grantee of FTZ 29, requesting subzone status subject to the existing activation limit of FTZ 29, on behalf of BlueOval SK LLC, in Glendale, Kentucky.

The application was processed in accordance with the FTZ Act and Regulations, including notice in the Federal Register inviting public comment (88 FR 57412, August 23, 2023). The FTZ staff examiner reviewed the application and determined that it meets the criteria for approval. Pursuant to the authority delegated to the FTZ Board Executive Secretary (15 CFR 400.36(f)), the application to establish Subzone 29U was approved on October 3, 2023, subject to the FTZ Act and the Board's regulations, including section 400.13, and further subject to FTZ 29's 2,000-acre activation limit.

Dated: October 3, 2023.
Elizabeth Whiteman,
Executive Secretary.

[FR Doc. 2023-22306 Filed 10-5-23; 8:45 am]

BILLING CODE 3510-DS-P